SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below: (OMB) Office of Management and Budget, Attn: Desk Officer for SSA, fax: 202-395-6974; (SSA) Social Security Administration, DCFAM, Attn: Reports Clearance Officer, 1333 Annex Building, 6401 Security Blvd., Baltimore, MD 21235, fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

Blood Donor Locator Service (BDLS)—20 CFR 401.200—0960-0501. This regulation requires requesting State agencies to provide the names and Social Security Numbers of blood donors, and a statement that the donor's blood tested positive for Human Immunodeficiency Virus (HIV) to SSA's Blood Donor Locator Service when blood donor facilities have identified donors as testing positive for HIV. This information is used by SSA to furnish the State agencies with the blood donors' address information for the purpose of notifying them. Respondents are State agencies acting on behalf of blood donor facilities.

Type of Request: Extension of an OMB-approved information collection.

Number of Respondents: 10.

Frequency of Response: 5.

Number of Responses: 50.

Average Burden Per Response: 15 minutes.

Estimated Annual Burden: 13 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Authorization for the Social Security Administration to Obtain Account Records From a Financial Institution and Request for Records—20 CFR 416.200, 416.203—0960-0293. The SSA-4641-U2 provides financial institutions with the applicant, recipient, or deemor's authorization to disclose records. Responses to the questions are used, in part, to determine whether the resources requirements are met in the Supplemental Security Income (SSI) program. The respondents are financial institutions used by SSI applicants, recipients and/or deemors.

Type of Request: Revision of an OMB-approved information collection.

Number of Respondents: 500,000.

Frequency of Response: 1.

Average Burden Per Response: 6 minutes.

Estimated Annual Burden: 50,000 hours.

2. You Can Make Your Payment By Credit Card—0960-0462. The SSA-4588 and SSA-4589 are used by SSA to update an individual's record to reflect that a payment has been made on their overpayment and to effectuate payment through the appropriate credit card company. The SSA-4588 is sent to overpaid individuals with an initial notice of overpayment, and the SSA-4589 is sent to overpaid individuals who have been previously notified of their debt. The SSA-4588 is sent out only once to the debtor, with the official first notice of overpayment; while the SSA-4589 is sent on a monthly basis until the debt is repaid. Respondents are Title II beneficiaries and Title XVI recipients who have outstanding overpayments.

Type of Request: Extension of an OMB-approved information collection.

Number of Respondents: 60,000.

Frequency of Response: 1.

Average Burden Per Response: 5 minutes.

Estimated Annual Burden: 5,000 hours.

3. Privacy and Disclosure of Official Records and Information; Availability of Information and Records to the Public—20 CFR 401.40(b)&(c), 401.55(b), 401.100(a), 402.130, 402.185—0960-0566. The Privacy Act of 1974 (5 U.S.C. 552a) authorizes SSA to collect certain information for access to and amendment or correction of records. The information collected is used by SSA to: (1) Identify individuals who request access to their records; (2) designate an individual to receive and review their medical records; (3) amend or correct records; (4) obtain consent from an individual to release his/her records to others (consent is submitted by letter in writing or by use of the SSA-3288, or other consent form). The Freedom of Information Act authorizes SSA to collect information needed to facilitate the release of information from SSA records. Respondents are individuals or businesses requesting access to, correction of, or disclosure of SSA records.

Type of Request: Extension of an OMB-approved information collection.

Number of Respondents: 3,028,500.

Estimated Annual Burden: 159,133 hours.

Type of request | Number of respondents | Frequency of response | Average burden per response | Estimated annual burden (hours)
Access to Records | 10,000 | 1 | ¹11 | 1,833
Designating a Representative for Disclosure of Records | 3,000 | 1 | ²2 | 6,000
Amendment of Records | 100 | 1 | 10 | 17
Consent of Release of Records | 3,000,000 | 1 | ¹3 | 150,000
FOIA Requests for Records | 15,000 | 1 | ¹5 | 1,250
Waiver/Reduction of Fees | 400 | 1 | ²5 | 33
Totals | 3,028,500 |  |  | 159,133
¹ Minutes.
² Hours.

4. Medical Consultant's Review of Psychiatric Review Technique Form—20 CFR 404.1520a, 404.1640, 404.1643, 404.1645, 416.920a—0960-0677. SSA measures the performance of the State Disability Determination Services (DDS) in the area of quality of documentation and determinations on claims. In mental claims, a Psychiatric Review Technique Form (PRTF) is completed by DDS. The SSA-3023 is only completed when an adjudicating component's PRTF is in the file. An SSA-3023 is required for each completed PRTF and is used by the regional review component to facilitate SSA's medical/psychological consultants' review of the PRTF for quality purposes. The respondents are medical/psychological consultants who review the Psychiatric Review Technique Form for quality purposes.

Type of Request: Extension of an OMB-approved information collection.

Number of Respondents: 344.

Frequency of Response: 194.

Total Annual Responses: 66,736.

Average Burden Per Response: 12 minutes.

Estimated Annual Burden: 13,347 hours.

5. Continuing Education Information Collection under Non-Attorney Demonstration Project—0960-NEW. Section 303 of the Social Security Protection Act of 2004 (SSPA) provides for a 5-year demonstration project to be conducted by SSA under which the direct payment of SSA approved fees is extended to certain non-attorney claimant representatives. Under the SSPA, to be eligible for direct payment of fees, a non-attorney representative must fulfill a series of statutory requirements. One of the steps is to demonstrate completion of relevant continuing education courses. Through the services of a private contractor, SSA must collect the requested information to determine if a non-attorney representative has met this statutory requirement to be eligible for direct payment of fees for his or her claimant representation services. The information collection is needed to comply with the legislation. The respondents are non-attorney representatives who apply for direct payment of fees.

Type of Request: Collection in use without OMB number.

Number of Respondents: 300.

Frequency of Response: 1.

Average Burden Per Response: 30 minutes.

Estimated Annual Burden: 150 hours.

Dated: September 5, 2006.
Elizabeth A. Davidson,
Reports Clearance Officer, Social Security Administration.

[FR Doc. E6-14900 Filed 9-8-06; 8:45 am]

BILLING CODE 4191-02-P